DEPARTMENT OF COMMERCE

National Oceanic and Atmospheric Administration

RIN 0648-XE630

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scallop Committee Meeting on Wednesday, June 8, 2016, to consider actions affecting New England fisheries in the exclusive economic zone (EEZ). Recommendations from this group will be brought to the full Council for formal consideration and action, if appropriate.

DATES: This meeting will be held on Wednesday, June 8, 2016 at 9:30 a.m., to view the agenda, see SUPPLEMENTARY INFORMATION.

ADDRESSES: The meeting will be held at the Hilton Garden Inn Boston Logan Airport, 100 Boardman Street, Boston, MA 02128; telephone: (617) 571-5478; fax: (617) 561-0798.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review the general workload for 2016 based on Council priorities and a draft action plan for Scallop Framework 28 (FW28) and potentially identify recommendations for prioritizing work items in upcoming actions. The Committee will also review progress on potential management measures that may be included in FW28, including: (1) Measures to restrict the possession of shell stock inshore of 42°20′ N.; (2) Modifications to the process for setting scallop fishery annual catch limits (ACL flowchart); (3) Measures to modify scallop access areas consistent with potential changes to habitat and groundfish mortality closed areas; and (4) Development of gear modifications to further protect small scallops. The Committee will provide research recommendations for the 2017/2018 Scallop Research Set-Aside (RSA) federal funding announcement and potentially discuss other RSA policies and program details.

The Committee will give a brief update on the required five-year review of the limited access general category IFQ program as well as review Advisory Panel recommendations. Other business may be discussed.

Special Accommodations

This meeting is physically accessible to people with disabilities. Requests for sign language interpretation or other auxiliary aids should be directed to Thomas A. Nies, Executive Director, at 978-465-0492, at least 5 days prior to the meeting date.

Authority: 16 U.S.C. 1801 et seq.

Dated: May 17, 2016.
Tracey L. Thompson,
Acting Director, Office of Sustainable Fisheries, National Marine Fisheries Service.

[FR Doc. 2016-11995 Filed 5-19-16; 8:45 am]

BILLING CODE 3510-22-P